DEPARTMENT OF DEFENSE

Office of the Secretary

[Docket ID: DoD-2021-OS-0109]

Proposed Collection; Comment Request

AGENCY: Office of the Under Secretary of Defense for Acquisition and Sustainment, Department of Defense (DoD).

ACTION: Information collection notice.

SUMMARY: In compliance with the Paperwork Reduction Act of 1995, the Office of Local Defense Community Cooperation announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 27, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of Local Defense Community Cooperation, 2231 Crystal Drive, Arlington, VA 22202 ATTN: Mr. James Holland or call 703-697-2188.

SUPPLEMENTARY INFORMATION: Title; Associated Form; and OMB Number: Defense Manufacturing Community Support Program Grant Proposals; OMB Control Number 0704-0606.

Needs and Uses: The Defense Manufacturing Community Support Program (DMCSP), authorized under Section 846 of the Fiscal Year 2019 National Defense Authorization Act (Pub. L. 115-232), is designed to undertake long-term investments in critical skills, facilities, research and development, and small business support in order to strengthen the national security innovation and manufacturing base. The program also seeks to ensure complementarity of those communities so designated with existing Defense Manufacturing Institutes. Defense Manufacturing Institutes are manufacturing ecosystems established since 2014, with common manufacturing and design challenges revolving around specific technologies. The DMCSP is designed to recognize communities that demonstrate best practices in attracting and expanding defense manufacturing. This information collection is necessary to facilitate the identification of new Defense Manufacturing Communities and the awarding of grants under the DMCSP via a grant proposal package. The proposal package is prepared in accordance to a Federal Funding Opportunity Announcement posted on the Grants.gov website.

Affected Public: Businesses or other for-profit; Not-for-profit Institutions; State, Local or Tribal Government.

Annual Burden Hours: 525.

Number of Respondents: 75.

Responses per Respondent: 1.

Annual Responses: 75.

Average Burden per Response: 7 hours.

Frequency: Annually.

Respondents will be institutions of higher education or a consortium of higher education institutions; public or private non-profit consortium of defense industries; and state, local or tribal government organization. The proposal will consist of: (1) Defense Manufacturing Community Designation Concept (slide presentation, 10-slide maximum); (2) Defense Manufacturing Community Designation White Paper (20-page maximum); and (3) Any Necessary Supporting Documentation (25-page maximum). Respondents return the proposal package by uploading electronically on the Grants.gov website.

Dated: October 20, 2021.
Kayyonne T. Marston,
Alternate OSD Federal Register Liaison Officer, Department of Defense.

[FR Doc. 2021-23211 Filed 10-22-21; 8:45 am]

BILLING CODE 5001-06-P